DEPARTMENT OF ENERGY

Office of Energy Efficiency and Renewable Energy

Wireless Metering Challenge

AGENCY: Office of Energy Efficiency and Renewable Energy, U.S. Department of Energy.

ACTION: Notice of availability; request for comments.

SUMMARY: The U.S. Department of Energy (DOE) Office of Energy Efficiency and Renewable Energy (EERE) requests comments on the draft version of the Wireless Power Meter Challenge Specification. This draft is a set of performance specifications applicable to energy efficiency metering devices for use at the electrical panel level within commercial buildings. The specifications are intended to spur the development of new technologies in the wireless electric metering space.

DATES: Comments on the Wireless Meter Challenge Specification must be received by 5 p.m. Eastern Standard Time April 26, 2013.

DOE will be holding a webinar on April 30, 2013. Information regarding the webinar is provided in the SUPPLEMENTARY INFORMATION section.

ADDRESSES: Comments may be submitted by electronic mail to wireless.meter@ee.doe.gov.

For further information on how to submit comments, please see the SUPPLEMENTARY INFORMATION section.

FOR FURTHER INFORMATION CONTACT: For questions regarding the submission of comments, technical questions, and questions regarding the Challenge, contact Jason Koman, Building Technologies Office, Mailstop EE-2J, Office of Energy Efficiency and Renewable Energy, U.S. Department of Energy, 1000 Independence Avenue SW., Washington, DC 20585. Phone number: (202) 287-1578. Email: Jason.Koman@ee.doe.gov.

For legal questions contact Christopher Calamita, U.S. Department of Energy, Office of the General Counsel, Forrestal Building, GC-71, 1000 Independence Avenue SW., Washington, DC 20585. Phone number: (202) 586-1777. Email: christopher.calamita@hq.doe.gov.

SUPPLEMENTARY INFORMATION: EERE is developing a challenge specification to spur the development of new, low cost wireless electric metering devices. In order to take action to reduce energy usage, owners and operators need to know how energy is being used in their buildings. Metering data provides visibility to a building's energy use. Energy costs can be reduced by taking action to resolve problems identified by examining metered data. While metering systems do not directly improve energy efficiency, metering systems enable focused energy efficiency actions. It is estimated that the use of metering systems result in energy efficiency actions that deliver electricity energy savings of at least 2% or more annually. Today, the cost of building and panel level metering systems is typically a key hurdle to implementing these technologies.

Through the Wireless Power Meter Challenge, EERE is developing an aspirational but achievable performance specification for wireless metering devices at a low price point. The intent is to identify performance specifications that would meet the demand from the commercial building sector and leverage this demand to spur manufacturers to create new technologies. This model has been successfully deployed in the past through EERE's Roof Top Unit Challenge (RTU) in which DOE provided a similar performance specification that had not yet been offered on the market and manufacturers responded with compliant technologies, resulting in the most efficient products available on the market.

The Wireless Power Meter Challenge Specification is supported by the Building Technologies Office (BTO) Commercial Building Integration (CBI) team. In developing the draft Specification, EERE has considered input from Federal Agencies and individual comments from commercial building owners. This will be the first time EERE has issued a notice requesting general public comment on the Specification.

EERE is providing an opportunity for public comment on the technical provisions laid out in the Specification. EERE may give further consideration to certain technical elements and subsequently make changes to the Specification as a result of issues identified by commenters. The draft Specification is available at http://www1.eere.energy.gov/buildings/commercial/bba_wireless metering.html.

DOE intends to host a webinar on April 30, 2013, to provide information on the development of the Specification. Interested parties should check the above Web page regularly for information regarding the webinar and Challenge, as it becomes available.

Issues on Which DOE Seeks Comment

DOE is seeking comments and views of interested parties on the following issues:

○ The performance requirements laid out in the specification.

○ The price targets laid out in the specification.

○ The applicability of the performance requirements to various types of commercial buildings.

○ The feasibility of developing a technology that meets the performance and price targets laid out in the specification.

Submission of Comments

DOE will accept comments, data, and information regarding the draft Specification no later than the date specified under the DATES heading.

Comments, data, and information submitted via DOE's email address should be provided in WordPerfect, Microsoft Word, PDF, or text (ASCII) file format. Interested parties should avoid the use of special characters or any form of encryption, and wherever possible, comments should include the electronic signature of the author. Comments, data, and information submitted to DOE via regular mail may include one signed paper original.

According to 10 CFR 1004.11, any person submitting information that he or she believes to be confidential and exempt by law from public disclosure should submit two copies: one copy of the document including all the information believed to be confidential, and one copy of the document that does not include the information believed to be confidential. DOE will make its own determination as to the confidential status of the information and treat it according to its determination.

Factors of interest to DOE when evaluating requests to treat submitted information as confidential include:

(1) A description of the items;

(2) Whether and why such items are customarily treated as confidential within the industry;

(3) Whether the information is generally known by or available from other sources;

(4) Whether the information has previously been made available to others without obligation concerning its confidentiality;

(5) An explanation of the competitive injury to the submitting person which would result from public disclosure;

(6) A date upon which such information might lose its confidential nature due to the passage of time; and

(7) Why disclosure of the information would be contrary to the public interest.

Issued in Washington, DC, on March 29, 2013.
Kathleen B. Hogan,
Deputy Assistant Secretary, Energy Efficiency and Renewable Energy.

[FR Doc. 2013-07972 Filed 4-4-13; 8:45 am]

BILLING CODE 6450-01-P